DEPARTMENT OF AGRICULTURE

Submission for OMB Review; Comment Request

January 11, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Monitoring Trends in the Public Health Nutrition Workforce.

OMB Control Number: 0584-NEW.

Summary of Collection: The Food and Nutrition Service Programs (FNS) wishes to conduct a study to monitor trends in the education and training, work experience, areas of practice, and training needs of the public health nutrition workforce at the state and local government levels. FNS will conduct a survey to obtain information to assess the agency's efforts to recruit and retain public health and community nutritionists to staff the Special Supplemental Nutrition Program for Women, Infants, and Children (WIC). There are two levels of respondents: (1) the 55 designated state and territorial public health nutrition directors and (2) persons employed in public health nutrition programs within states, including persons employed by Indian Tribal Organizations. State public health nutrition directors through their professional association—the Association of State and Territorial Public Health Nutrition Directors (ASTPHND)—will carry out this data collection under a grant agreement with the U.S. Department of Agriculture, Food and Nutrition Service.

Need and Use of the Information: ASTPHND will collect information through a Web-based survey. A paper version of the survey will be used only for those respondents who do not have Internet access. A profile describing the workforce will assist FNS to determine the extent to which the current and future workforces have the necessary requirements to carry out the WIC program, for which FNS is responsible. Workforce profile data are essential to evaluate the impact of the agency's effort to recruit and retain public health and community nutritionists. Recruitment and retention of qualified staff is essential to maintaining quality nutrition services by providing an environment where staff are appropriately selected, trained, and supported.

Description of Respondents: State, local, or tribal government.

Number of Respondents: 10,055.

Frequency of Responses: Reporting: Other (one-time).

Total Burden Hours: 4,645.

Charlene Parker,
Departmental Information Collection Clearance Officer.

[FR Doc. E6-402 Filed 1-13-06; 8:45 am]

BILLING CODE 3410-30-P